DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Tryptophan as a Functional Replacement for ADP-ribose-arginine in Recombinant Proteins

Dr. Joel Moss et al. (NHLBI), DHHS Reference No. E-160-2002/0-US-01 filed 28 Jun 2002 Licensing Contact: Marlene Shinn; 301/435-4426; shinnm@od.nih.gov.

Bacterial toxins such as cholera toxin and diphtheria toxin catalyze the ADP-ribosylation of important cellular target proteins in their human hosts, thereby, as in the case of cholera toxin, irreversibly activating adenylate cyclase. In this reaction, the toxin transfers the ADP-ribose moiety of Nicotinamide Adenine Dinucleotide (NAD) to an acceptor amino acid in a protein or peptide. ADP-ribosylation leads to a peptide/protein with altered biochemical or pharmacological properties. Mammalians proteins catalyze reactions similar to the bacterial toxins. The ADP-ribosylated proteins represent useful pharmacological agents, however, their use is limited by the inherent instability of the ADP-ribose-protein linkage.

The NIH announces a new technology wherein recombinant proteins are created that substitute phenylalanine or tryptophan for an arginine, thereby making the protein more stable, and better suited as agents for therapeutic purposes. The modification creates an effect similar to ADP-ribosylation of the arginine. An example of a protein that can be modified is the defensin molecule, which is a broad-spectrum antimicrobial that acts against infectious agents and plays an important role in the innate immune defense in vertebrates.

Identification of Anti-HIV Compounds Inhibiting Virus Assembly and Binding of Nucleocapsid Protein to Nucleic Acid

Drs. Robert Shoemaker and Michael Currens (STB, DTP, DCTD, NCI), Drs. Alan Rein and Ya-Xiong Feng (DRP, CCR, NCI), Drs. Robert Fisher, Andrew Stephen, Shizuko Sei, Bruce Crise, and Louis Henderson, and Ms. Karen Worthy (SAIC-Frederick), DHHS Reference No. E-121-2002/0 filed 08 Oct 2002, Licensing Contact: Sally Hu; 301/435-5606; hus@od.nih.gov

This invention identified potent inhibitors of HIV particle assembly and nucleocapsid/nucleic acid binding. Two series of active antiviral compounds are described in this invention. One series comprises aromatic, antimony-containing compounds while the other an aromatic tricarboxylic acid. Both series have been shown to exhibit anti-HIV viral activity by inhibiting viral particle assembly and by inhibiting the binding of the nucleocapsid protein to nucleic acid and protecting susceptible human cells from the cytopathic effect of HIV. Compounds in both classes show potent activity in mechanistic assays and cell-based antiviral assays and are quite non-toxic in vitro. Thus, these compounds, or derivatives, may be useful in treatment of AIDS patients.

Apparatus and Method for In Vitro Recording and Stimulation of Cells

David Ide (NIMH), George Mentis (NINDS), DHHS Reference No. E-068-2002 filed 05 Jul 2002, Licensing Contact: Dale Berkley; 301/435-5019; berkleyd@od.nih.gov.

The invention is an apparatus that allows in vitro recording and stimulation of neuronal tissue using extracellular and intracellular techniques. This system enables the experimenter to combine commercially available motorized micromanipulators (used to position electrodes for intracellular recordings) with newly designed miniature micromanipulators to perform simultaneously extracellular recordings and/or stimulations. The apparatus consists of a circular plexiglas in vitro chamber, an aluminum base that allows adjustment to securely positioned preparations at various rotated positions during the course of the experiment (without having to re-position the preparation), and a set of several (maximum ten) miniaturized micromanipulators, allowing four-dimensional control. The positioning of the electrodes for extracellular recordings/stimulation is done manually without any motor control. The miniature micromanipulators can also be used to position multi-barrel electrodes for local application of pharmacological agents as well as for different purposes (mini temperature probe, pH probe, outlet or inlet tubing etc). This is a unique system that permits a practical, versatile electrophysiological setup for simultaneous extracellular and intracellular recordings. The apparatus is fully documented and ready for transfer from the laboratory to the commercial environment.

Dated: December 13, 2002.
Jack Spiegel,
Director, Division of Technology Development and Transfer, Office of Technology Transfer, National Institutes of Health.

[FR Doc. 02-32350 Filed 12-23-02; 8:45 am]

BILLING CODE 4140-01-P